ENVIRONMENTAL PROTECTION AGENCY

[FRL-8687-4]

Notice of Proposed Administrative Settlement Pursuant to the Comprehensive Environmental Response, Compensation, and Liability Act

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement concerning the Tobin and Jacks Superfund Site, with a number of parties (“Settling Parties”), and the United States Environmental Protection Agency (“EPA”) The settlement requires the Settling Parties to pay a total of $405,180.31 to the EPA in reimbursement of Past Response Costs. The settlement includes a covenant not to sue under section 107 of CERCLA, 42 U.S.C 9607.

For thirty (30) days following the date of publication of this notice, the Agency will receive written comments relating to the settlement. The Agency will consider all comments received and may withdraw or withhold its consent to the proposed settlement if comments received disclose facts or considerations which indicate that the settlement is inappropriate, improper, or inadequate. The Agency's response to any comments received will be available for public inspection at 1445 Ross Avenue, Dallas, Texas 75202-2733.

DATES: Comments must be submitted on or before July 31, 2008.

ADDRESSES: The proposed settlement is available for public inspection at 1445 Ross Avenue, Dallas, Texas 75202-2733. A copy of the proposed settlement may be requested from Barbara J. Aldridge (6SF-TE), U.S. Environmental Protection Agency, Region 6, 1445 Ross Avenue, Dallas, Texas 75202-2733 at (214) 665-2712. Comments should reference the Tobin and Jacks Superfund Site, Dallas, Texas, and EPA Docket Number 06-06-07, and should be addressed to Gloria Moran at the address listed below.

FOR FURTHER INFORMATION CONTACT: Gloria Moran (6RC-S), U.S. Environmental Protection Agency, 1445 Ross Avenue, Dallas, Texas 75202-2733, or call (214) 665-3193.

Dated: June 25, 2008.
Lawrence E. Starfield,
Acting Regional Administrator, Region 6.

[FR Doc. E8-14906 Filed 6-30-08; 8:45 am]

BILLING CODE 6560-50-M